DEPARTMENT OF JUSTICE

Office of Justice Programs

Agency Information Collection Activities: Proposed Collection; Comment Request

ACTION: Notice of information collection under review: Reinstatement, without change, of a previously approved collection for which approval has expired.

Census of Juveniles in Residential Placement

The Department of Justice, Office of Justice Programs, Bureau of Justice Assistance, has submitted the following information collection request for review and clearance in accordance with the Paperwork Reduction Act of 1995. This proposed information collection is published to obtain comments from the public and affected agencies. Comments are encouraged and will be accepted for “sixty days” until April 23, 2001.

If you have additional comments, suggestions, or need a copy of the proposed information collection instrument with instructions or additional information, please contact Ellen Wesley, 202-616-3558, Office of Budget and Management Services, Office of Justice Programs, U.S. Department of Justice, 810 7th Street, NW., Washington, DC 20531.

Request written comments and suggestions from the public and affected agencies concerning the proposed collection of information. Your comments should address one or more of the following four points:

(1) Evaluate whether the proposed collection of information is necessary for the proper performance of the functions of the agency, including whether the information will have practical utility;

(2) Evaluate the accuracy or the agency estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Comments and/or suggestions regarding the item(s) contained in this notice, especially regarding the estimated public burden and associated response time should be directed to Joseph Moone, Office of Juvenile Justice and Delinquency Prevention 810 Seventh Street, NW., Washington, DC 20531. If you have additional comments, suggestions, or need a copy of the proposed information collection instrument with instructions, or additional information, please contact Joseph Moone, 202-6161-3643, Office of Juvenile Justice and Delinquency Prevention, Office of Justice Programs, U.S. Department of Justice, 810 Seventh Street, NW., Washington, DC 20531.

Overview of This Information Collection

(1) Type of Information Collection: Reinstatement, without change, of a previously approved collection for which approval has expired.

(2) Title of the Form/Collection: Census of Juveniles in Residential Placement.

(3) Agency form number, if any, and the applicable component of the Department of Justice sponsoring the collection: Form: CJ-14 Office of Juvenile Justice and Delinquency Prevention, Office of Justice Programs, United States Department of Justice.

(4) Affected public who will be asked or required to respond, as well as a brief abstract; primary: Public and private juvenile detention, correctional, shelter, facilities. Other: None.

(5) An estimate of the total number of respondents and the amount of time estimated for an average respondent to respond: The total number of respondents is 3,500 at an average of 4 hours to respond.

(6) An estimate of the total public burden (in hours) associated with the collection: The estimated total burden hours is 11,142.

If additional information is required contact; Mrs. Brenda E. Dyer, Deputy Clearance Office, United States Department of Justice, Information Management and Security Staff, Justice Management Division, Suite 1220, National Place, 1331 Pennsylvania Avenue NW., Washington, DC 20530.

Dated: February 13, 2001.
Brenda E. Dyer,
Department Deputy Clearance Officer, United States Department of Justice.

[FR Doc. 01-4099 Filed 2-16-01; 8:45 am]

BILLING CODE 4410-18-M